DEPARTMENT OF THE TREASURY

Customs Service

Retraction of Revocation and Notice of Cancellation

AGENCY: Customs Service, Department of the Treasury.

ACTION: General notice.

SUMMARY: The following Customs broker license was erroneously included in a list of revoked Customs broker licenses. The license listed below was not revoked; it was cancelled due to death of the license holder.

Name | License | Port Name
Isidore Cohen | 01668 | New York

December 17, 2001.
Bonni G. Tischler,
Assistant Commissioner, Office of Field Operations.

[FR Doc. 02-1788 Filed 1-23-02; 8:45 am]

BILLING CODE 4820-02-P